DEPARTMENT OF COMMERCE

National Oceanic and Atmospheric Administration

50 CFR Part 622

[Docket No. 0612243157-7799-07]

RIN 0648-AT87

Fisheries of the Caribbean, Gulf of Mexico, and South Atlantic; Reef Fish Fishery and Shrimp Fishery of the Gulf of Mexico; Amendment 27/14; Correction

AGENCY: National Marine Fisheries Service (NMFS), National Oceanic and Atmospheric Administration (NOAA), Commerce.

ACTION: Final rule; correction.

SUMMARY: This document contains a correction to the final rule to implement joint Amendment 27 to the Fishery Management Plan for the Reef Fish Resources of the Gulf of Mexico and Amendment 14 to the Fishery Management Plan for the Shrimp Fishery of the Gulf of Mexico (Amendment 27/14) that was published in the Federal Register Tuesday, January 29, 2008.

DATES: This correction is effective February 28, 2008.

FOR FURTHER INFORMATION CONTACT: Anik Clemens, 727-824-5305; fax: 727-824-5308; e-mail: Anik.Clemens@noaa.gov.

SUPPLEMENTARY INFORMATION: The final rule that is the subject of this correction was published Tuesday, January 29, 2008 (73 FR 5117). That final rule contains an error in the regulatory text. In § 622.37, paragraph (d)(1)(iv), the conversion of 13 inches to 38.1 cm is incorrect. The correct conversion is 33.0 cm. All other information remains unchanged and will not be repeated in this correction.

Correction

On page 5128, in the first column, in § 622.37(d)(1)(iv), “13 inches (38.1 cm)” should read “13 inches (33.0 cm)”.

Authority: 16 U.S.C. 1801 et seq.

Dated: February 22, 2008.
John Oliver,
Deputy Assistant Administrator for Operations, National Marine Fisheries Service.

[FR Doc. E8-3840 Filed 2-28-08; 8:45 am]

BILLING CODE 3510-22-S